DEPARTMENT OF JUSTICE

Office of Justice Programs

National Institute of Justice

[OMB Number 1121—NEW]

Agency Information Collection Activities; Proposed Collection; Comments Requested: Understanding Trends in Hate Crimes Against Immigrants and Hispanic Americans

ACTION: 60-Day Notice of Information Collection Under Review.

The Department of Justice (DOJ), National Institute of Justice (NIJ) and Office of Justice Programs (OJP) will be submitting the following information collection request to the Office of Management and Budget (OMB) for review and approval in accordance with the Paperwork Reduction Act of 1995. The proposed information collection is published to obtain comments from the public and affected agencies. Comments are encouraged and will be accepted for sixty days until October 3, 2011. This process is conducted in accordance with 5 CFR 1320.10.

Written comments concerning this information collection should be sent to the Office of Information and Regulatory Affairs, Office of Management and Budget, Attn: DOJ Desk Officer. The best way to ensure your comments are received is to e-mail them to oira_submission@omb.eop.gov or fax them to 202-395-7285. All comments should reference the 8 digit OMB number for the collection or the title of the collection. If you have questions concerning the collection, please call Carrie Mulford at 202-307-2959 or the DOJ Desk Officer at 202-395-3176.

Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection

(1) Type of Information Collection: New Collection.

(2) Title of the Form/Collection: Understanding Trends in Hate Crimes Against Immigrants and Hispanic Americans.

(3) Agency form number, if any, and the applicable component of the Department of Justice sponsoring the collection: Form Number: N/A. National Institute of Justice, Office of Justice Programs.

(4) Affected public who will be asked or required to respond, as well as a brief abstract: Primary: Law enforcement chiefs and sheriffs. Secondary: Patrol officers, directors of advocacy organizations for immigrants, and clients of immigration advocacy organizations. While there has been great progress in understanding and measuring hate crime, many fundamental questions remain unanswered. To address these questions, we are employing a multi-method analysis of hate crime in the United States with a special focus on trends in crimes against Hispanic Americans and others perceived to be immigrants. The first phase of the project, already complete, involved gathering and analyzing relevant secondary data sets. Phase two of the project will involve a survey of a sample of 500 police departments, focus groups with law enforcement personnel and NGOs addressing hate crime in five selected sites, and interviews with expert law enforcement practitioners, trainers and researchers.

(5) An estimate of the total number of respondents and the amount of time estimated for an average respondent to respond: We hope to gather 500 responses to the law enforcement survey. Agencies selected for the survey will be based on a disproportionate stratified random sample design with oversampling of agencies serving populations over 50,000. Further, we estimate that we will conduct about 20 focus groups, each time with about eight individuals, and at least 60 individual interviews. The table below shows the estimated number of respondents for each portion of data collection.

Law Enforcement Survey
State | Arizona | California | Michigan | New Jersey | Texas
Police Chiefs | 64 | 174 | 79 | 82 | 101
Focus Groups
Patrol Officers | 16 | 16 | 16 | 16 | 16
Clients of NGOs | 16 | 16 | 16 | 16 | 16
Law Enforcement | 6 | 6 | 6 | 6 | 6
NGO directors | 6 | 6 | 6 | 6 | 6

The law enforcement survey will take about 30 minutes to complete. Each of the focus groups will last for approximately one hour. Individual interviews will last between 30 minutes and one hour.

(6) An estimate of the total public burden (in hours) associated with the collection: There are an estimated 470 annual total public burden hours associated with this collection.

Task | Estimated time (minutes) | Total participants | Total minutes per task
Law Enforcement Survey | 30 | 500 | 15,000
Focus Groups | 60 | 160 | 9,600
Interviews | 60 | 60 | 3,600
Total |  |  | 28,200 (= 470 hours)

If additional information is required contact: Jerri Murray, Department Clearance Officer, United States Department of Justice, Justice Management Division, Policy and Planning Staff, Two Constitution Square, 145 N Street, NE., Room 2E-508, Washington, DC 20530.

Jerri Murray,
Department Clearance Officer, U.S. Department of Justice.

[FR Doc. 2011-19431 Filed 8-1-11; 8:45 am]

BILLING CODE 4410-18-P